DEPARTMENT OF DEFENSE

GENERAL SERVICES ADMINISTRATION

NATIONAL AERONAUTICS AND SPACE ADMINISTRATION

48 CFR Parts 2, 22, and 52

[FAC 2005-69; Item VII; Docket 2013-0080; Sequence 4]

Federal Acquisition Regulation; Technical Amendments

AGENCY: Department of Defense (DoD), General Services Administration (GSA), and National Aeronautics and Space Administration (NASA).

ACTION: Final rule.

SUMMARY: This document makes amendments to the Federal Acquisition Regulation (FAR) in order to make editorial changes.

DATES: Effective: August 1, 2013.

FOR FURTHER INFORMATION CONTACT: The Regulatory Secretariat Division (MVCB), 1800 F Street NW., 2nd Floor, Washington, DC 20405, 202-501-4755, for information pertaining to status or publication schedules. Please cite FAC 2005-69, Technical Amendments.

SUPPLEMENTARY INFORMATION: In order to update certain elements in 48 CFR parts 2, 22, 29, and 52, this document makes editorial changes to the FAR.

List of Subject in 48 CFR Parts 2, 22, and 52

Government procurement.

Dated: July 26, 2013.
William Clark,
Acting Director, Office of Government-wide Acquisition Policy, Office of Acquisition Policy, Office of Government-wide Policy.

Therefore, DoD, GSA, and NASA amend 48 CFR parts 2, 22, 29, and 52 as set forth below:

1. The authority citation for 48 CFR parts 2, 22, 29, and 52 continues to read as follows:

Authority: 40 U.S.C. 121(c); 10 U.S.C. chapter 137; and 51 U.S.C. 20113.

PART 2—DEFINITIONS OF WORDS AND TERMS

2.101 [Amended]

2. Amend section 2.101, in paragraph (b)(2), in the definition “Commercially available off-the-shelf (COTS) item”, by—

a. Removing “(COTS) item” and adding “(COTS) item—” in its place; and

b. In paragraph (2) of the definition removing “bulk cargo, as defined in section 3 of the Shipping Act of 1984 (46 U.S.C. App. 1702)” and adding “bulk cargo, as defined in 46 U.S.C. 40102(4)” in its place.

PART 22—APPLICATION OF LABOR LAWS TO GOVERNMENT ACQUISITIONS

22.1801 [Amended]

3. Amend section 22.1801, in the definition “Commercially available off-the-shelf (COTS) item”, paragraph (2), by removing “bulk cargo, as defined in section 3 of the Shipping Act of 1984 (46 U.S.C. App. 1702)” and adding “bulk cargo, as defined in 46 U.S.C. 40102(4)” in its place.

PART 52—SOLICITATION PROVISIONS AND CONTRACT CLAUSES

4. Amend section 52.209-6 by—

a. Revising the date of the clause; and

b. Removing from paragraph (a)(2) in the definition “Commercially available off-the-shelf (COTS) item” the words “bulk cargo, as defined in section 3 of the Shipping Act of 1984 (46 U.S.C. App. 1702)” and adding “bulk cargo, as defined in 46 U.S.C. 40102(4)” in their place.

The revision reads as follows:

52.209-6 Protecting the Government's Interest When Subcontracting with Contractors Debarred, Suspended, or Proposed for Debarment.

* * * * *

Protecting the Government's Interest When Subcontracting With Contractors Debarred, Suspended, or Proposed for Debarment (Aug, 2013)

* * * * *

5. Amend section 52.212-5 by revising the date of the clause and paragraph (b)(6) to read as follows:

52.212-5 Contract Terms and Conditions Required To Implement Statutes or Executive Orders—Commercial Items.

* * * * *

Contract Terms and Conditions Required To Implement Statutes or Executive Orders—Commercial Items (Aug, 2013)

* * * * *

(b) * * *

(6) 52.209-6, Protecting the Government's Interest When Subcontracting with Contractors Debarred, Suspended, or Proposed for Debarment. (Aug, 2013) (31 U.S.C. 6101 note).

* * * * *

6. Amend section 52.222-54 by—

a. Revising the date of the clause; and

b. Removing from paragraph (a)(2) of the definition “Commercially available off-the-shelf (COTS) item” the words “bulk cargo, as defined in section 3 of the Shipping Act of 1984 (46 U.S.C. App. 1702)” and adding “bulk cargo, as defined in 46 U.S.C. 40102(4)” in its place.

The revision reads as follows:

52.222-54 Employment Eligibility Verification.

* * * * *

Employment Eligibility Verification (Aug, 2013)

* * * * *

[FR Doc. 2013-18465 Filed 7-31-13; 8:45 am]

BILLING CODE 6820-EP-P